NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119) (Virtual Meeting)

Date and Time: May 26, 2021; 12:00 p.m.-5:00 p.m.; May 27, 2021; 11:00 a.m.-5:00 p.m.

Place: National Science Foundation, 2415 Eisenhower Avenue. Alexandria, VA 22314 To attend the virtual meeting, all visitors must register at least 48 hours prior to the meeting.at: https://nsf.zoomgov.com/webinar/register/WN_UHLnLDeIRwy5_IxC3FmFtw. The final meeting agenda will be posted to: https://www.nsf.gov/ehr/advisory.jsp.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Nafeesa Owens, National Science Foundation, 2415 Eisenhower Avenue, Room C11000, Alexandria, VA 22314; (703) 292-8600; ehr_ac@nsf.gov.

Purpose of Meeting: To provide advice with respect to the Foundation's science, technology, engineering, and mathematics (STEM) education and human resources programming.

Agenda

Wednesday, May 26, 202; 12:00 p.m.-5:00 p.m.

• Welcoming Remarks from the EHR AC Chair & the EHR Assistant Director

• Session 1: Aligning Agency-Wide Broadening Participation and Racial Equity Efforts

• Session 2: Monitoring Broadening Participation Efforts

• Session 3: Finding Central Themes around Broadening Participation Research Activities

Thursday, May 27, 2020; 11:00 a.m.-5:00 p.m.

• Session 4: Reporting Results from a Committee of Visitors

• Session 5: Funding Opportunities in Support of Equity

• Session 6: Revisiting EHR's Name

• Discussions with NSF Leadership and Closing Remark

Dated: April 26, 2021.
Crystal Robinson,
Committee Management Officer.

[FR Doc. 2021-08944 Filed 4-28-21; 8:45 am]

BILLING CODE 7555-01-P